FEDERAL COMMUNICATIONS COMMISSION

47 CFR Part 73

[DA 04-1735; MM Docket No. 03-141; RM-10703]

Radio Broadcasting Services; Corona de Tucson and Sierra Vista, AZ

AGENCY: Federal Communications Commission.

ACTION: Final rule.

SUMMARY: In response to petition for rule making filed by this document substitutes Channel 267C3 for Channel 269A at Sierra Vista, Arizona, reallots Channel 267C3 to Corona de Tucson, Arizona, and modifies the Station KKYZ license to specify operation on Channel 267C3 at Corona de Tucson. In doing so, it dismissed a counterproposal filed by Christian County Network proposing that Channel 267C3 be reserved for noncommercial educational use. This allotment is also conditioned on concurrence from the Mexican government. See 68 FR 42665, July 18, 2003. The reference coordinates for the Channel 267C3 allotment at Corona de Tucson, Arizona, are 31-57-24 and 110-41-38.

DATES: Effective August 9, 2004.

FOR FURTHER INFORMATION CONTACT: Robert Hayne, Media Bureau (202) 418-2177.

SUPPLEMENTARY INFORMATION: This is a synopsis of the Report and Order in MM Docket No.03-141 adopted June 23, 2004, and released June 25, 2004. The full text of this decision is available for inspection and copying during normal business hours in the FCC Reference Information Center at Portals II, CY-A257, 445 12th Street, SW., Washington, DC. The complete text of this decision may also be purchased from the Commission’s copy contractor, Best Copy and Printing, Inc., 445 12th Street, SW, Room CY-B402, Washington, DC 20554, telephone 1-800-378-3160 or www.BCPIWEB.com.

List of Subjects in 47 CFR Part 73

Radio, Radio Broadcasting.

Part 73 of the Code of Federal Regulations is amended as follows:

PART 73—RADIO BROADCAST SERVICES

1. The authority citation for Part 73 continues to read as follows:

Authority: 47 U.S.C. 154, 303, 334 and 336.

§ 73.202(b) [Amended]

2. Section 73.202(b), the Table of FM Allotments under Arizona, is amended by removing Channel 269A at Sierra Vista, and by adding Corona de Tucson, Channel 267C3.

Federal Communications Commission.
John A. Karousos,
Assistant Chief, Audio Division, Media Bureau.

[FR Doc. 04-16367 Filed 7-16-04; 8:45 am]

BILLING CODE 6712-01-P